DEPARTMENT OF COMMERCE

Foreign-Trade Zones Board

[S-95-2024]

Foreign-Trade Zone 250; Application for Subzone; Boss Laser, LLC; Sanford, Florida

An application has been submitted to the Foreign-Trade Zones (FTZ) Board by the Sanford Airport Authority, grantee of FTZ 250, requesting subzone status for the facility of Boss Laser, LLC, located in Sanford Florida. The application was submitted pursuant to the provisions of the Foreign-Trade Zones Act, as amended (19 U.S.C. 81a-81u), and the regulations of the FTZ Board (15 CFR part 400). It was formally docketed on August 15, 2024.

The proposed subzone (4.25 acres) is located at 640 Boss Laser Way, Sanford, Florida. No authorization for production activity has been requested at this time. The proposed subzone would be subject to the existing activation limit of FTZ 250.

In accordance with the FTZ Board's regulations, Kolade Osho of the FTZ Staff is designated examiner to review the application and make recommendations to the Executive Secretary.

Public comment is invited from interested parties. Submissions shall be addressed to the FTZ Board's Executive Secretary and sent to: ftz@trade.gov. The closing period for their receipt is September 30, 2024. Rebuttal comments in response to material submitted during the foregoing period may be submitted during the subsequent 15-day period to October 15, 2024.

A copy of the application will be available for public inspection in the “Online FTZ Information Section” section of the FTZ Board's website, which is accessible via www.trade.gov/ftz.

For further information, contact Kolade Osho at Kolade.Osho@trade.gov.

Dated: August 16, 2024.
Elizabeth Whiteman,
Executive Secretary.

[FR Doc. 2024-18748 Filed 8-20-24; 8:45 am]

BILLING CODE 3510-DS-P